DEPARTMENT OF JUSTICE

Notice of Lodging of Consent Decree Under The Clean Water Act, Oil Pollution Act, and Endangered Species Act

Notice is hereby given that on May 21, 2007, a proposed Consent Decree in United States v. Kinder Morgan Energy Partners, L.P., et al.Civil Action No. 2:07-00952-GEB-EFB was lodged with the United States District Court for the Eastern District of California.

In this action the United States and the State of California sought civil penalties, injunctive relief, response costs, and natural resource damages as a result of three oil spills from defendants' pipeline into waters of the United States and the State of California. Pursuant to the Decree, the defendants will pay $3,795,135 in civil penalties, $1,426,298 for response and reimbusement costs and natural resource damages and $20,000 for restoration projects. The defendants also commit to undertake several actions as injunctive remedy to prevent the recurrence of pipeline spills.

The Department of Justice will receive for a period of thirty (30) days from the date of this publication, comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Kinder Morgan Energy Partners, et al., D.J. Ref. 90-5-1-1-08427.

The Consent Decree may be examined at the office of the United States Attorney, Eastern District of California, 501 I Street, Sacramento, CA 95814, and at U.S. EPA Region 9, 75 Hawthorne Street, San Francisco, California 94105. During the public comment period, the Consent Decree, may also be examined on the following Department of Justice Web site, to http://www.usdoj.gov/enrd/Consent_Decrees.html. A copy of the Consent Decree may also by obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $12.00 (25 cents per page reproduction cost) payable to the U.S. Treasury or, if by e-mail or fax, forward a check in that amount to the Consent Decree Library at the stated address.

Henry Friedman,
Assistant Section Chief, Environmental Enforcement Section, Environment and Natural Resources Division.

[FR Doc. 07-2699 Filed 5-31-07; 8:45 am]

BILLING CODE 4410-15-M